DEPARTMENT OF HEALTH AND HUMAN SERVICES

Office of the Secretary

Findings of Misconduct in Science

AGENCY: Office of the Secretary, HHS.

ACTION: Notice.

SUMMARY: Notice is hereby given that the Office of Research Integrity (ORI) and the Assistant Secretary for Health have taken final action in the following case:

Kristin Roovers, Ph.D., University of Pennsylvania: Based on an investigation conducted by the University of Pennsylvania (UP) and additional analysis and information obtained by the Office of Research Integrity during its oversight review, the U.S. Public Health Service (PHS) found that Kristin Roovers, Ph.D., former postdoctoral fellow, Departments of Medicine, Cell and Developmental Biology, and Pharmacology, and Howard Hughes Medical Institute, and former graduate student, Department of Pharmacology, UP, engaged in misconduct in science in research funded by National Heart, Lung, and Blood Institute (NHLBI), National Institutes of Health (NIH), grants R01 HL061567, P50 HL057278, and T32 HL07873, National Institutes of Diabetes and Digestive and Kidney Diseases (NIDDK), NIH, grants P30 DK52574 and R01 DK066886, National Cancer Institute (NCI), NIH, grant R01 CA72639, and National Institute of General Medical Sciences (NIGMS), NIH, grants R01 GM48224, R01 GM58224, R01 GM51878, and R01 GM69064.

Dr. Roovers' manipulations and falsification of data were extensive, encompassing 19 panels of Western blot data, appearing in 11 figures in 3 publications from her research as a graduate student and her first postdoctoral position and in 9 panels of immunoblot data in 8 figures of an unpublished manuscript.

Specifically, the findings involved falsification by duplication and reuse of immunoblot data to misrepresent the results as data from different experiments that had been reported in the following manuscript and three publications:

• Figures 2C, 3C, 4D, 4E, 6C, 7B, and supplement Figures 1, 2B, and 3B in a manuscript submitted to the Journal of Clinical Investigation entitled: “Akt1 promotes physiologic, but antagonizes pathologic, cardiac growth.”

• Figures 3A, 3C, and 4A in: Welsh, C.F., Roovers, K., Villanueva, J., Liu, Y., Schwartz, M.A., & Assoian, R.K. “Timing of cyclin D1 expression within G1 phase is controlled by Rho.” Nature Cell Biology 3(11):950-957, 2001.

• Figures 1, 2A, 2B, 3A, 3C, 4A, 4B, 6C, 6D, and 6E in: Roovers, K., & Assoian, R.K. “Effects of rho kinase and actin stress fibers on sustained extracellular signal-regulated kinase activity and activation of G(1) phase cyclin-dependent kinases.” Mol. Cell Biol. 23(12):4283-4294, 2003. Retracted in Mol. Cell Biol. 26(13):5203, July 2006.

• Figures 1C, 2C, 5B, 5D, 6B and 6D in: Roovers, K., Klein, E.A., Castagnino, P., & Assoian, R.K. “Nuclear translocation of LIM kinase mediates Rho-Rho kinase regulation of cyclin D1 expression.” Developmental Cell 5 (2):273-284, 2003. Retracted in Developmental Cell 10(5):681, May 2006.

Corrections were recommended by UP for the Nature Cell Biology paper.

Dr. Roovers' falsified Western blot data from the publications in Nature Cell Biology and from Developmental Cell were included in NIH grant applications CA 72639-07 and GM 69064-01.

ORI has implemented the following administrative actions for a period of five (5) years, beginning on June 7, 2007:

(1) Dr. Roovers is debarred from eligibility for any contracting or subcontracting with any agency of the United States Government and from eligibility or involvement in nonprocurement programs of the United States Government referred to as “covered transactions” as defined in HHS' implementation of OMB Guidelines to Agencies on Governmentwide Debarment and Suspension at 2 CFR part 376, et seq.; and

(2) Dr. Roovers is prohibited from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E7-13703 Filed 7-13-07; 8:45 am]

BILLING CODE 4150-31-P